LEGAL SERVICES CORPORATION

Sunshine Act Meeting of the Board of Directors Finance Committee

Time and Date: The Finance Committee of the Legal Services Corporation Board of Directors will meet September 10, 2004. The meeting will commence immediately following conclusion of the Provision for the Delivery of Legal Services Committee meeting, the deliberations of which are anticipated to terminate at approximately 3:15 p.m.

Location: The Best Western, 835 Great Northern Boulevard, Helena, Montana.

Status of Meeting: Open.

Matters To Be Considered:

Open Session

1. Approval of agenda;

2. Approval of the minutes of the Committee's meeting of June 4, 2004;

3. Presentation of LSC's Financial Reports for the Ten-Month Period Ending July 31, 2004;

4. Report on FY 2004 Internal Budgetary Adjustments based on the June Financial Report as recommended by the President and Inspector General;

5. Consider and act on the FY 2005 Temporary Operating Budget;

6. Consider and act on the FY 2006 Budget “Mark”;

7. Presentation by ABA of recommended budget mark;

8. Presentation by NLADA of recommended budget mark;

9. Presentation by management of recommended budget mark;

10. Consider and act on other business;

11. Public comment;

12. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: September 1, 2004.
Victor M. Fortuno,
Vice President for Legal Affairs, General Counsel & Corporate Secretary.

[FR Doc. 04-20267 Filed 9-1-04; 3:12 pm]

BILLING CODE 7050-01-P